DEPARTMENT OF ENERGY

Federal Energy Regulatory Commission

Combined Notice of Filings #1

March 30, 2009.

Take notice that the Commission received the following electric rate filings:

Docket Numbers: ER02-237-013; ER03-1151-007; ER02-1695-006; ER02-2309-005.

Applicants: J. Aron & Company, Power Receivable Finance, LLC, Cabazon Wind Partners, LLC, Whitewater Hill Wind Partners LLC.

Description: Notice of Change in Status of J. Aron & Company, et al.

Filed Date: 03/26/2009.

Accession Number: 20090326-5081.

Comment Date: 5 p.m. Eastern Time on Thursday, April 16, 2009.

Docket Numbers: ER08-364-005.

Applicants: APX, Inc.

Description: Notice of Non-Material Change in Status of APX, Inc.

Filed Date: 03/26/2009.

Accession Number: 20090326-5077.

Comment Date: 5 p.m. Eastern Time on Thursday, April 16, 2009.

Docket Numbers: ER08-654-003.

Applicants: California Independent System Operator Corporation.

Description: California Independent System Operator Corporation submits instant filing in compliance with the Commission Order Granting Clarification, Denying Rehearing, and Conditionally Accepting Compliance Filing.

Filed Date: 02/27/2009.

Accession Number: 20090304-0146.

Comment Date: 5 p.m. Eastern Time on Friday, April 17, 2009.

Docket Numbers: ER08-980-001.

Applicants: Alliant Energy Corporate Services, Inc.

Description: Interstate Power and Light Company submits an amended Agreement to identify the Service Agreement as Service Agreement 1, FERC Electric Tariff, Original Volume 1.

Filed Date: 03/26/2009.

Accession Number: 20090327-0036.

Comment Date: 5 p.m. Eastern Time on Thursday, April 16, 2009.

Docket Numbers: ER08-1288-004.

Applicants: Wapsipinicon Wind Project, LLC.

Description: Notice of Non-Material Change in Status of Wapsipinicon Wind Project, LLC.

Filed Date: 03/27/2009.

Accession Number: 20090327-5075.

Comment Date: 5 p.m. Eastern Time on Friday, April 17, 2009.

Docket Numbers: ER09-343-002.

Applicants: SC Landfill Energy, LLC.

Description: Refund Report of SC Landfill Energy, LLC.

Filed Date: 03/27/2009.

Accession Number: 20090327-5043.

Comment Date: 5 p.m. Eastern Time on Friday, April 17, 2009.

Docket Numbers: ER09-414-000.

Applicants: Aquila Inc.

Description: Aquila, Inc et al submits a supplement to their 12/15/08 request to withdraw from the MISO Transmission Owners Agreement.

Filed Date: 03/04/2009.

Accession Number: 20090306-0007.

Comment Date: 5 p.m. Eastern Time on Thursday, April 09, 2009.

Docket Numbers: ER09-779-001.

Applicants: Nordic Energy Services, LLC.

Description: Nordic Energy Services, LLC submits Petition for Acceptance of Initial Tariff, Waivers and Blanket Authority, FERC Electric Tariff, Original Volume 1.

Filed Date: 03/26/2009.

Accession Number: 20090327-0020.

Comment Date: 5 p.m. Eastern Time on Thursday, April 16, 2009.

Docket Numbers: ER09-885-000.

Applicants: Duke Energy Indiana, Inc.

Description: Duke Energy Indiana, Inc submits summary schedules for the Transmission and Local Facilities Agreement for Calendar Year 2007 between Duke Energy and Wabash Valley Power Association, Inc.

Filed Date: 03/24/2009.

Accession Number: 20090325-0129.

Comment Date: 5 p.m. Eastern Time on Tuesday, April 14, 2009.

Docket Numbers: ER09-889-000.

Applicants: City of Dover Delaware.

Description: City of Dover submits Rate Schedule No 1 for Reactive Power Service from the Mckee and VanSant Facilities.

Filed Date: 03/25/2009.

Accession Number: 20090326-0149.

Comment Date: 5 p.m. Eastern Time on Wednesday, April 15, 2009.

Docket Numbers: ER09-891-000.

Applicants: Tampa Electric Company.

Description: Tampa Electric Company submits notice of cancellation and cancellation cover sheet for its service agreement with the Florida Municipal Power Agency etc.

Filed Date: 03/26/2009.

Accession Number: 20090327-0019.

Comment Date: 5 p.m. Eastern Time on Thursday, April 16, 2009.

Docket Numbers: ER09-892-000.

Applicants: Reliant Energy Solutions, LLC.

Description: Reliant Energy Electric Solutions, LLC submits Notice of Cancellation of REES, FERC Electric Tariff, Second Revised Volume 1.

Filed Date: 03/26/2009.

Accession Number: 20090327-0018.

Comment Date: 5 p.m. Eastern Time on Thursday, April 16, 2009.

Docket Numbers: ER09-893-000.

Applicants: PacifiCorp.

Description: PacifiCorp submits a Large Generator Interconnection Agreement Facilities Maintenance Agreement dated 3/1/09 with PacifiCorp Energy designated as Service Agreement 551, Seventh Revised Volume 11 etc.

Filed Date: 03/26/2009.

Accession Number: 20090327-0033.

Comment Date: 5 p.m. Eastern Time on Thursday, April 16, 2009.

Docket Numbers: ER09-894-000.

Applicants: PacifiCorp.

Description: PacifiCorp submits an updated Exhibit B to a Network Integration Transmission Service Agreement with PacifiCorp Energy, to be designated as Third Revised Sheet 8-12 of First Revised Service Agreement 66, Seventh Revised Volume 11 etc.

Filed Date: 03/26/2009.

Accession Number: 20090327-0032.

Comment Date: 5 p.m. Eastern Time on Thursday, April 16, 2009.

Docket Numbers: ER09-895-000.

Applicants: Wisconsin Electric Power Company.

Description: Wisconsin Electric Power Company submits Notice of Amended Rate Schedule No. 118, effective 5/26/09.

Filed Date: 03/26/2009.

Accession Number: 20090327-0031.

Comment Date: 5 p.m. Eastern Time on Thursday, April 16, 2009.

Docket Numbers: ER09-896-000.

Applicants: Ameren Services Company.

Description: Union Electric Company submits an executed Service Agreement for Wholesale Distribution Service with the City of Perry, Missouri.

Filed Date: 03/26/2009.

Accession Number: 20090327-0030.

Comment Date: 5 p.m. Eastern Time on Thursday, April 16, 2009.

Docket Numbers: ER09-899-000.

Applicants: Pacific Gas and Electric Company.

Description: Pacific Gas and Electric Company submits a Service Agreement for Wholesale Distribution Tariff Service and an Interconnection Agreement with Hercules Municipal Utility etc under ER09-899.

Filed Date: 03/27/2009.

Accession Number: 20090330-0023.

Comment Date: 5 p.m. Eastern Time on Friday, April 17, 2009.

Take notice that the Commission received the following electric securities filings:

Docket Numbers: ES09-16-000.

Applicants: The Detroit Edison Company.

Description: Supplemental Information of The Detroit Edison Company to their Application under Section 204 of the Federal Power Act.

Filed Date: 03/27/2009.

Accession Number: 20090327-5048.

Comment Date: 5 p.m. Eastern Time on Thursday, April 09, 2009.

Docket Numbers: ES09-23-000.

Applicants: Old Dominion Electric Cooperative, Inc.

Description: Application of Old Dominion Electric Cooperative for Extension of Authorization to Guarantee Obligations and for the Exemption from the Commission's Competitive Bidding Requirement Under Section 34.2.

Filed Date: 03/26/2009.

Accession Number: 20090326-5100.

Comment Date: 5 p.m. Eastern Time on Thursday, April 16, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Kimberly D. Bose,
Secretary.

[FR Doc. E9-7576 Filed 4-3-09; 8:45 am]

BILLING CODE 6717-01-P